DEPARTMENT OF COMMERCE

National Oceanic and Atmospheric Administration

[RTID 0648-XD215]

Endangered Species; File No. 23639

AGENCY: National Marine Fisheries Service (NMFS), National Oceanic and Atmospheric Administration (NOAA), Commerce.

ACTION: Notice; receipt of application for a permit modification.

SUMMARY: Notice is hereby given that Coonamessett Farm Foundation, Inc., 277 Hatchville Road, East Falmouth, MA 02536, (Responsible Party: Ronald Smolowitz), has requested a modification to scientific research Permit No. 23639-01.

DATES: Written comments must be received on or before September 5, 2023.

ADDRESSES: The modification request and related documents are available for review by selecting “Records Open for Public Comment” from the Features box on the Applications and Permits for Protected Species (APPS) home page, https://apps.nmfs.noaa.gov, and then selecting File No. 23639 mod 5 from the list of available applications. These documents are also available upon written request via email to NMFS.Pr1Comments@noaa.gov.

Written comments on this application should be submitted via email to NMFS.Pr1Comments@noaa.gov. Please include File No. 23639 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject modification to Permit No. 23639, issued on September 25, 2020 (85 FR 63524, October 8, 2020) is requested under the authority of the Endangered Species Act of 1973, as amended (16 U.S.C. 1531 et seq.) and the regulations governing the taking, importing, and exporting of endangered and threatened species (50 CFR parts 222-226).

Permit No. 23639-01 authorizes the permit holder to study the behavior and distributions of green (Chelonia mydas), Kemp's ridley (Lepidochelys kempii), leatherback (Dermochelys coriacea), and loggerhead (Caretta caretta) sea turtles in U.S. waters from Maine through North Carolina. Researchers may capture sea turtles by dip or encirclement net, and perform the following procedures before release: morphometrics, photography, marking, a suite of biological sampling, and transmitter attachment. After release, animals may be temporarily tracked with an underwater remotely operated vehicle (ROV). Leatherbacks may be sighted and tracked by a manned aircraft for subsequent vessel-based research later in the same day involving remote attachment of a suction-cup tag, ROV tracking, and remote passive integrated transponder (PIT) tag scanning. Sea turtles may also be pursued during unsuccessful capture or remote tagging attempts. The permit holder requests authorization to: (1) increase the number of Kemp's ridley sea turtles captured from 15 to 30 annually; (2) increase the number of loggerhead sea turtles captured from 30 to 60 annually; (3) attach up to 2 transmitters (acoustic + satellite or camera tag) at a time on large hard-shelled turtles; and (4) add 2 satellite tag models as alternative tag unit options when tagging hard-shelled turtles. This modification would accommodate new funding to conduct sea turtle surveys that would inform wind energy development in the Atlantic. The modification would be valid until the permit expires on September 30, 2030.

Dated: July 28, 2023.
Julia M. Harrison,
Chief, Permits and Conservation Division, Office of Protected Resources, National Marine Fisheries Service.

[FR Doc. 2023-16495 Filed 8-2-23; 8:45 am]

BILLING CODE 3510-22-P